DEPARTMENT OF THE INTERIOR

National Park Service

[NPS-WASO-NAGPRA-18960; PPWOCRADN0-PCU00RP14.R50000]

Notice of Inventory Completion: U.S. Department of the Interior, Fish and Wildlife Service, Alaska Region, Anchorage, AK, and the University of Alaska Museum of the North, Fairbanks, AK

AGENCY: National Park Service, Interior.

ACTION: Notice.

SUMMARY: The U.S. Department of the Interior, Fish and Wildlife Service, Alaska Region (Alaska Region USFWS), and the University of Alaska Museum of the North have completed an inventory of human remains and associated funerary objects, in consultation with the appropriate Alaska Native Tribes, and have determined that there is a cultural affiliation between the human remains and associated funerary objects and a present-day Alaska Native Tribe. Representatives of any Alaska Native Tribe not identified in this notice that wish to request transfer of control of these human remains and associated funerary objects should submit a written request to the Alaska Region USFWS. If no additional requestors come forward, transfer of control of the human remains to the Alaska Native Tribe stated in this notice may proceed.

DATES: Representatives of any Alaska Native Tribe not identified in this notice that wish to request transfer of control of these human remains should submit a written request with information in support of the request to the Alaska Region USFWS at the address in this notice by September 30, 2015.

ADDRESSES: Edward J. DeCleva, Regional Historic Preservation Officer/Archaeologist, U.S. Fish and Wildlife Service, 1011 E. Tudor Road, MS-235, Anchorage, AK 99503, telephone (907) 786-3399, edward_decleva@fws.gov.

SUPPLEMENTARY INFORMATION: Notice is here given in accordance with the Native American Graves Protection and Repatriation Act (NAGPRA), 25 U.S.C. 3003, of the completion of an inventory of human remains and associated funerary objects under the control of the Alaska Region USFWS and housed at the University of Alaska Museum of the North. The human remains and associated funerary objects were removed from the Turner River archaeological site (XDP-00037), in North Slope Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alaska Region USFWS and the University of Alaska Museum of the North professional staff in consultation with representatives of the Native Village of Kaktovik.

History and Description of the Remains

The Turner River Overlook archeological site (XDP-00037), also referred to as Lorenz Overlook, is located on the North Slope of Alaska within the boundaries of the Arctic National Wildlife Refuge. Professional archeological excavations were carried out at the site between 1977 and 1980, led by Curtis J. Wilson who reported on these excavations in his 1991 Ph.D. dissertation. All of the human remains and associated funerary objects removed from this site by Wilson were placed in three different accessions at the University of Alaska Museum of the North: UA78-388, UA79-231, and UA80-203.

In 1978, human remains representing, at minimum, five individuals, were removed from site XDP-00037. The human remains in accession UA78-388 are the partial remains of one adult female, one adult male, two adults of indeterminate sex, and one perinatal individual of indeterminate sex. No known individuals were identified. The 864 associated funerary objects are 685 beads, 38 projectile points, 8 knives, 1 drill bearing, 1 wrist guard, 6 fishhook shanks, 1 harpoon head, 11 pieces of birch bark, 3 labrets, 2 quartz crystals, 1 axe head, 1 ground stone, 1 sled runner, 2 scrapers, 1 whetstone, 1 toy bow fragment, 3 net gauges, 1 line spreader, 1 ladle, 1 bird blunt, 1 piece of ochre, 30 faunal remains, 10 pieces of worked wood, 21 metal fragments, 3 pieces of worked ivory, 15 pieces of worked antler, 10 pieces of worked bone, 2 flakes, 2 pebbles, and 1 cobble.

In 1979, human remains representing, at minimum, 11 individuals were removed from site XDP-00037. The human remains in accession 79-231 are the partial remains of five adult females, one adult of indeterminate sex, one juvenile of indeterminate sex, and four adult males. No known individuals were identified. The 263 associated funerary objects are 8 beads, 15 burned stones, 1 cooking stone, 1 projectile point, 2 flakes, 2 pieces of wood, 4 metal fragments, 1 piece of worked ivory, 4 pieces of worked antler, 1 piece of worked wood, 17 pieces of worked bone, 131 faunal remains, 6 stones, and 70 pebbles.

In 1980, human remains representing, at minimum, five individuals were removed from site XDP-00037. The human remains in accession UA80-203 are the partial remains of one adult female, two adult males, one juvenile of indeterminate sex, and one sub-adult of indeterminate sex. No known individuals were identified. The 3,776 associated funerary objects are 1 awl, 1 piece of bark, 204 beads, 4 biface fragments, 2 bow fragments, 8 burned stones, 5 core fragments, 1 end scraper, 2,430 faunal remains, 9 fire spalls, 2 flagging stones, 135 flakes, 1 glass bottle fragment, 7 pieces of ground stone, 1 harpoon point, 2 knives, 1 knife handle, 3 labrets, 4 lamps, 7 lamp fragments, 1 piece of lead shot, 17 metal fragments, 2 nails, 659 pebbles, 19 projectile points, 2 quartz crystals, 2 rock spalls, 1 sandstone tool, 29 pieces of slate, 6 stones, 1 piece of tar, 1 ulu blade, 6 pieces of wood, 38 pieces of worked antler, 89 pieces of worked bone, 1 piece of worked ivory, 4 worked stones, and 70 pieces of worked wood.

Based the geographic location, the condition of the human remains, and morphology, all of the human remains described in this notice are determined to be Native American. The removal of these human remains and associated funerary objects from surface burials or shallow graves is consistent with a common pre-contact and contact era burial practice in the region to lay the deceased out either directly on the surface or enclosed in a box on the surface. Kaktovik is an Alaska Native village in the North Slope Borough and is located on the northern edge of the Arctic National Wildlife Refuge. Archeological studies and oral traditions show that there is at least 1,000 years of continuity between present-day and past peoples living on the North Slope of Alaska. Based on this information, the human remains and associated funerary objects described in this notice are determined to be culturally affiliated with Native American tribal members residing in Kaktovik, AK, today, represented by the Native Village of Kaktovik.

Determinations Made by the Alaska Region USFWS and the University of Alaska Museum of the North

Officials of the Alaska Region USFWS and the University of Alaska Museum of the North have determined that:

• Pursuant to 25 U.S.C. 3001(9), the human remains described in this notice represent the physical remains of 21 individuals of Native American ancestry.

• Pursuant to 25 U.S.C. 3001(3)(A), the 4,903 objects described in this notice are reasonably believed to have been placed with or near individual human remains at the time of death or later as part of the death rite or ceremony.

• Pursuant to 25 U.S.C. 3001(2), there is a relationship of shared group identity that can be reasonably traced between the Native American human remains and associated funerary objects and the Native Village of Kaktovik.

Additional Requestors and Disposition

Lineal descendants or representatives of any Alaska Native Tribe not identified in this notice that wishes to request transfer of control of these human remains and associated funerary objects should submit a written request with information in support of the request to Edward DeCleva, Regional Historic Preservation Officer/Archaeologist, U.S. Fish and Wildlife Service, Alaska Region, 1011 E. Tudor Road, MS-235, Anchorage, AK 99013, telephone (907) 786-3399, email edward_decleva@fws.gov, by September 30, 2015. After that date, if no additional requestors have come forward, transfer of control of the human remains and associated funerary objects to the Native Village of Kaktovik may proceed.

The Alaska Region, USFWS and the University of Alaska Museum of the North are responsible for notifying the Native Village of Kaktovik that this notice has been published.

Dated: July 31, 2015.
Melanie O'Brien,
Manager, National NAGPRA Program.

[FR Doc. 2015-21498 Filed 8-28-15; 8:45 am]

BILLING CODE 4312-50-P